FEDERAL COMMUNICATIONS COMMISSION

47 CFR Part 73

[DA 02-2099; MM Docket No. 01-62; RM-10053, RM-10109, RM-10110, RM-10111, RM-10112, RM-10113, RM-10114, RM-10116]

Radio Broadcasting Services; Ardmore, Brilliant, Brookwood, Gadsden, Hoover, AL; Linden, McMinnville, TN; Moundville, New Hope, AL; Okolona, MS; Pleasant Grove, AL; Pulaski, TN; Russellville, Scottsboro, Troy, Trussville, Tuscaloosa, AL; Walden, TN and Winfield, AL

AGENCY: Federal Communications Commission.

ACTION: Final rule.

SUMMARY: In response to a petition for rule making in this Proceeding jointly filed by Capstar TX Limited Partnership, Clear Channel Broadcasting Licenses, Inc., and Jacor Licensee of Louisville II, Inc., this document grants multiple channel substitutions and changes of community of license in Alabama, Mississippi and Tennessee. Specifically, this document substitutes Channel 288C2 for Channel 290A at Trussville, Alabama, reallots Channel 288C2 to Hoover, Alabama, and modifies the Station WENN license to specify operation on Channel 288C2 at Hoover. In order to accommodate the Channel 288C2 allotment at Hoover, this document substitutes Channel 290C3 for Channel 288A at Tuscaloosa, Alabama, reallots Channel 290C3 to Brookwood, Alabama, and modifies the Station WRTR license to specify operation on Channel 290C3 at Brookwood. To accommodate Channel 290C3 at Brookwood, this document substitutes Channel 249A for Channel 290A at Winfield, Alabama, and modifies the license of Station WKXM to specify operation on Channel 249A. In order to accommodate Channel 249A at Winfield, it substitutes Channel 278A for Channel 249A at Russellville, Alabama, and modifies the Station WKGL license to specify operation on Channel 278A. In order to accommodate Channel 288C2 at Hoover, this document also substitutes Channel 289C0 for Channel 289C at Troy, Alabama, and modifies the Station WZHT license to specify operation on Channel 289C0. See SUPPLEMENTARY INFORMATION.

DATES: Effective October 15, 2002.

FOR FURTHER INFORMATION CONTACT: Robert Hayne, Mass Media Bureau (202) 418-2177.

SUPPLEMENTARY INFORMATION: This is a synopsis of the Report and Order in MM Docket No.01-62 adopted August 28, 2002, and released August 30, 2002. The full text of this decision is available for inspection and copying during normal business hours in the FCC Reference Information Center at Portals ll, CY-A257, 445 12th Street, SW., Washington, DC. The complete text of this decision may also be purchased from the Commission's copy contractor, Qualex International, Portals II, 445 12th Street, SW., Room CY-B402, Washington, DC 20554, telephone (202) 863-2893, facsimile (202) 863-2898, or via e-mail qualixint@aol.com.

This document reallots Channel 279C1 from Gadsden, Alabama, to Trussville, Alabama, and modifies the Station WQEN license to specify Trussville as its community of license. In order to allot Channel 279C1 to Trussville, Alabama, this documents reallots Channel 280C2 from Columbus, Mississippi, to Okolona, Mississippi, and modifies the Station WACR license to specify Okolona as its community of license. This document allots Channel 267A to Linden, Tennessee, and Channel 278A to New Hope, Alabama. This document substitutes Channel 279C3 for Channel 280A at McMinnville, Tennessee, reallots Channel 279C3 to Walden, Tennessee, and modifies the Station WTRZ license to specify operation Walden as its community of license. See 66 FR 14872, March 14, 2001. The reference coordinates for the Channel 288C2 allotment at Hoover, Alabama, are 33-22-41 and 86-48-35. The reference coordinates for the Channel 290C3 allotment at Brookwood, Alabama, are 33-12-36 and 87-24-40. The reference coordinates for the Channel 249A allotment at Winfield, Alabama, are 33-12-36 and 87-24-40. The reference coordinates for the Channel 289C0 allotment at Troy, Alabama, are 31-52-03 and 86-14-58. The reference coordinates for the Channel 280C2 allotment at Okolona, Mississippi, are 33-51-38 and 88-30-44. The reference coordinates for the Channel 258A allotment at Vardaman, Mississippi, are 33-46-13 and 89-15-26. The reference coordinates for the Channel 267A allotment at Linden, Tennessee, are 35-37-47 and 87-45-09. The reference coordinates for the Channel 278A allotment at New Hope, Alabama, are 34-34-50 and 86-25-17. The reference coordinates for the Channel 279C3 allotment at Walden, Tennessee, are 35-14-32 and 85-22-17. The reference coordinates for the Channel 279C1 allotment at Trussville, Alabama, are 33-26-38 and 86-52-47.

List of Subjects in 47 CFR Part 73

Radio, Radio broadcasting.

Part 73 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Alabama, is amended by removing Trussville, Channel 290A and adding Hoover, Channel 288C2.

3. Section 73.202(b), the Table of FM Allotments under Alabama, is amended by removing Gadsden, Channel 279C1 and adding Trussville, Channel 279C1.

4. Section 73.202(b), the Table of FM Allotments under Alabama, is amended by removing Channel 288A at Tuscaloosa and adding Brookwood, Channel 290C3.

5. Section 73.202(b), the Table of FM Allotments under Alabama, is amended by removing Channel 290A and adding Channel 249A at Winfield.

6. Section 73.202(b), the Table of FM Allotments under Alabama, is amended by removing Channel 289C and adding Channel 289C0 at Troy.

7. Section 73.202(b), the Table of FM Allotments, under Alabama, is amended by adding New Hope, Channel 278A.

8. Section 73.202(b), the Table of FM Allotments under Mississippi, is amended by removing Channel 280C2 at Columbus and adding Okolona, Channel 280C2.

9. Section 73.202(b), the Table of FM Allotments under Mississippi, is amended by adding Vardaman, Channel 258A.

10. Section 73.202(b), the Table of FM Allotments under Tennessee, is amended by adding Linden, Channel 267A.

11. Section 73.202(b), the Table of FM Allotments under Tennessee, is amended by removing McMinnville, Channel 280A and adding Walden, Channel 279C3.

Federal Communications Commission.
John A. Karousos,
Assistant Chief, Audio Division, Media Bureau.

[FR Doc. 02-23883 Filed 9-19-02; 8:45 am]

BILLING CODE 6712-01-P